DEPARTMENT OF LABOR

Occupational Safety and Health Administration

29 CFR Parts 1910, 1915, 1926 and 1928

[Docket Number H-122A]

RIN 1218-AB37

Indoor Air Quality

AGENCY: Occupational Safety and Health Administration (OSHA), Labor.

ACTION: Withdrawal of proposal.

SUMMARY: OSHA is withdrawing its Indoor Air Quality proposal and terminating the rulemaking proceeding. In the years since the proposal was issued, a great many state and local governments and private employers have taken action to curtail smoking in public areas and in workplaces. In addition, the portion of the proposal not related to environmental tobacco smoke (ETS) received little attention during the rulemaking proceedings, and much of that consisted of commenters calling into question significant portions of the proposal. As a result, record evidence supporting the non-ETS portion of the proposal is sparse.

Withdrawal of this proposal will also allow the Agency to devote its resources to other projects. The Agency's current regulatory priorities, as set forth in the Regulatory Agenda, include a number of important occupational safety and health standards. This document does not preclude any agency action that OSHA may find to be appropriate in the future.

DATES: The withdrawal is made on December 17, 2001.

FOR FURTHER INFORMATION CONTACT: Bonnie Friedman, Director, OSHA Public Affairs Office, Occupational Safety and Health Administration, Room N-3647, U.S. Department of Labor, 200 Constitution Avenue, NW., Washington, DC 20210; Telephone (202) 693-1999; Fax (202) 693-1634.

Authority and Signature

This document was prepared under the direction of John L. Henshaw, Assistant Secretary of Labor for Occupational Safety and Health, U.S. Department of Labor. It is issued pursuant to section 6(b) of the Occupational Safety and Health Act of 1970 (84 Stat. 1594, 29 U.S.C. 655) and 29 C.F.R. 1911.18.

Signed at Washington, DC this 12th of December, 2001.
John L. Henshaw,
Assistant Secretary of Labor.

[FR Doc. 01-31165 Filed 12-14-01; 8:45 am]

BILLING CODE 4510-26-M